DEPARTMENT OF HEALTH AND HUMAN SERVICES

Food and Drug Administration

[Docket No. FDA-2018-N-0410]

Peripheral and Central Nervous System Drugs Advisory Committee; Notice of Meeting; Establishment of a Public Docket; Request for Comments; Correction

AGENCY: Food and Drug Administration, HHS.

ACTION: Notice; establishment of a public docket; request for comments; correction.

SUMMARY: The Food and Drug Administration is correcting a notice entitled “Peripheral and Central Nervous System Drugs Advisory Committee; Notice of Meeting; Establishment of a Public Docket; Request for Comments” that appeared in the Federal Register of February 22, 2018. The document was published with the incorrect docket number. This document corrects that error.

FOR FURTHER INFORMATION CONTACT: Lisa Granger, Office of Policy and Planning, Food and Drug Administration, 10903 New Hampshire Ave., Bldg. 32, Rm. 3330, Silver Spring, MD 20993-0002, 301-796-9115.

SUPPLEMENTARY INFORMATION: In the Federal Register of Thursday, February 22, 2018 (83 FR 7727), in FR Doc. 2018-03603, on page 7727, the following correction is made:

1. On page 7727, in the first column, in the header of the document, the docket number is corrected to read “FDA-2018-N-0410.”

Dated: March 5, 2018.
Leslie Kux,
Associate Commissioner for Policy.

[FR Doc. 2018-04774 Filed 3-8-18; 8:45 am]

BILLING CODE 4164-01-P